DEPARTMENT OF ENERGY

Federal Energy Regulatory Commission

Notice of Intent To Prepare an Environmental Assessment; Notice Soliciting Written Scoping Comments

July 30, 2002.

Take notice that the following hydroelectric application has been filed with the Commission and is available for public inspection:

a. Type of Application: New License.

b. Project No.: 2574-032.

c. Date filed: April 29, 2002.

d. Applicant: Merimil Limited Partnership.

e. Name of Project: Lockwood Hydroelectric Project.

f. Location: On the Kennebec River in Kennebec County, near City of Waterville and Town of Winslow, Maine. The project does not affect federal lands.

g. Filed Pursuant to: Federal Power Act, 16 U.S.C. 791(a)-825(r).

h. Applicant Contact: Mr. F. Allen Wiley, Kennebec Hydro Resources Inc., c/o FPL Energy Maine Hydro, LLC, 150 Main Street, Lewiston, ME 04240, (207) 795-1342.

i. FERC Contact: David Turner, (202) 219-2844 or david.turner@ferc.gov.

j. Deadline for filing scoping comments: August 29, 2002.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's Web site, http://www.ferc.gov, under the “e-Filing” link.

k. This application is not ready for environmental analysis at this time.

l. Description of the Project: The existing Lockwood Project consists of: (1) A 1,300-foot-long concrete gravity dam, consisting of three spillway sections, a small island, and the forebay headworks; (2) 450-foot-long forebay; (3) a 81.5-acre reservoir; (3) two powerhouses, one containing six vertical Francis type turbines and the second containing one horizontal variable pitch kaplan turbine, for a total installed capacity of 7,250 kilowatts; (4) about 4,225 feet of buried and overhead transmission lines; and (5) appurtenant facilities.

m. A copy of the application is on file with the Commission and is available for public inspection. This filing may also be viewed on the Web at http://www.ferc.gov using the “RIMS” link—select “Docket #” and follow the instructions (call 202-208-2222 for assistance). A copy is also available for inspection and reproduction at the address in item h above.

n. Scoping Process: The Commission intends to prepare an Environmental Assessment (EA) for the project in accordance with the National Environmental Policy Act. The EA will consider both site-specific and cumulative environmental impacts and reasonable alternatives to the proposed action.

Commission staff do not propose to conduct any on-site scoping meetings at this time. Instead, we will solicit comments, recommendations, information, and alternatives by issuing Scoping Document 1 (SD1).

Copies of SD1 outlining the subject areas to be addressed in the EA were distributed to the parties on the Commission's mailing list. Copies of SD1 may be viewed on the Web at http://www.ferc.gov using the “RIMS” link—select “Docket #” and follow the instructions (call 202-208-2222 for assistance).

Linwood A. Watson, Jr.,
Deputy Secretary.

[FR Doc. 02-19659 Filed 8-2-02; 8:45 am]

BILLING CODE 6717-01-P